DEPARTMENT OF ENERGY

Federal Energy Regulatory Commission

Combined Notice Of Filings

Take notice that the Commission has received the following Natural Gas Pipeline Rate and Refund Report filings:

Filings Instituting Proceedings

Docket Numbers: RP16-1003-000.

Applicants: Algonquin Gas Transmission, LLC.

Description: § 4(d) rate filing per 154.204: Non-Conforming Agreement—Narragansett 510209 to be effective 6/1/2016.

Filed Date: 6/1/16.

Accession Number: 20160601-5124.

Comments Due: 5 p.m. ET 6/13/16.

Docket Numbers: RP16-1004-000.

Applicants: Gulf South Pipeline Company, LP.

Description: § 4(d) rate filing per 154.204: Cap Rel Neg Rate Agmt (QEP 37657 to Trans LA 46521) to be effective 6/2/2016.

Filed Date: 6/1/16.

Accession Number: 20160601-5181.

Comments Due: 5 p.m. ET 6/13/16.

Docket Numbers: RP16-1005-000.

Applicants: Equitrans, L.P.

Description: § 4(d) rate filing per 154.204: Negotiated Capacity Release Agreements—6/01/2016 to be effective 6/1/2016.

Filed Date: 6/1/16.

Accession Number: 20160601-5227.

Comments Due: 5 p.m. ET 6/13/16.

Docket Numbers: RP16-1006-000.

Applicants: Columbia Gas Transmission, LLC.

Description: § 4(d) rate filing per 154.204: GEH—Multi-Party Contracts to be effective 7/1/2016.

Filed Date: 6/1/16.

Accession Number: 20160601-5289.

Comments Due: 5 p.m. ET 6/13/16.

Docket Numbers: RP16-1007-000.

Applicants: Columbia Gulf Transmission, LLC.

Description: § 4(d) rate filing per 154.204: GEH—Multi-Party Contracts to be effective 7/1/2016.

Filed Date: 6/1/16.

Accession Number: 20160601-5290.

Comments Due: 5 p.m. ET 6/13/16.

Docket Numbers: RP16-1009-000.

Applicants: Crossroads Pipeline Company.

Description: § 4(d) rate filing per 154.204: GEH—Multi-Party Contracts to be effective 7/1/2016.

Filed Date: 6/1/16.

Accession Number: 20160601-5293.

Comments Due: 5 p.m. ET 6/13/16.

Docket Numbers: RP16-1010-000.

Applicants: Central Kentucky Transmission Company.

Description: § 4(d) rate filing per 154.204: GEH—Multi-Party Contracts to be effective 7/1/2016.

Filed Date: 6/1/16.

Accession Number: 20160601-5300.

Comments Due: 5 p.m. ET 6/13/16.

Docket Numbers: RP16-1011-000.

Applicants: Millennium Pipeline Company, LLC.

Description: § 4(d) rate filing per 154.204: Operational Sales at Pool Filing to be effective 7/1/2016.

Filed Date: 6/1/16.

Accession Number: 20160601-5301.

Comments Due: 5 p.m. ET 6/13/16.

Docket Numbers: RP16-1012-000.

Applicants: Rockies Express Pipeline LLC.

Description: § 4(d) rate filing per 154.204: Neg Rate 2016-06-01 Perm Partial BP to be effective 6/1/2016.

Filed Date: 6/1/16.

Accession Number: 20160601-5338.

Comments Due: 5 p.m. ET 6/13/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 2, 2016.
Nathaniel J. Davis, Sr.,
Deputy Secretary.

[FR Doc. 2016-13896 Filed 6-10-16; 8:45 am]

BILLING CODE 6717-01-P